ENVIRONMENTAL PROTECTION AGENCY

40 CFR Part 180

[EPA-HQ-OPP-2012-0001; FRL-9346-1]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before June 1, 2012.

ADDRESSES: Submit your comments, identified by docket identification (ID) number and the pesticide petition number (PP) of interest as shown in the body of this document, by one of the following methods:

• Federal eRulemaking Portal: http://www.regulations.gov. Follow the online instructions for submitting comments.

• Mail: Office of Pesticide Programs (OPP) Regulatory Public Docket (7502P), Environmental Protection Agency, 1200 Pennsylvania Ave. NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available online at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and email address, is listed at the end of each pesticide petition summary. You may also reach each contact person by mail at Biopesticides and Pollution Prevention Division (7511P) or Registration Division (7505P), Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 1E7853. (EPA-HQ-OPP-2011-0395). Interregional Research Project Number 4 (IR-4), 500 College Road East, Suite 201 W, Princeton, NJ 08540, requests to establish tolerances in 40 CFR part 180 for residues of the fungicide fludioxonil, 4-(2, 2-difluoro-1,3-benzodioxol-4-yl)-1H-pyrrole-3-carbonitrile, in or on acerola at 5.0 parts per million (ppm); atemoya at 20 ppm; biriba at 20 ppm; cherimoya at 20 ppm; custard apple at 20 ppm; feijoa at 5.0 ppm; guava at 5.0 ppm; ilama at 20 ppm; jaboticaba at 5.0 ppm; passionfruit at 5.0 ppm; soursop at 20 ppm; starfruit at 5.0 ppm; sugar apple at 20 ppm; wax jambu at 5.0 ppm; ginseng at 3.0 ppm; onion, bulb subgroup 3-07A at 0.2 ppm; onion, green subgroup 3-07B at 7.0 ppm; caneberry subgroup 13-07A at 5.0 ppm; bushberry subgroup 13-07B at 2.0 ppm; fruit, small fruit vine climbing, except fuzzy kiwifruit, subgroup 13-07F at 1.0 ppm; berry, low growing, subgroup 13-07G, except cranberry at 2.0 ppm; vegetable, fruiting, group 8-10, except tomato at 0.7 ppm; fruit, citrus, group 10-10 at 10 ppm; fruit, pome, group 11-10 at 5.0 ppm; leafy green subgroup 4A at 30 ppm; pineapple at 8.0 ppm; dragon fruit at 1.0 ppm; and vegetable, tuberous and corm, subgroup 1C at 6.0 ppm. Syngenta, has developed and validated analytical methodology for enforcement purposes. This method (Syngenta Crop Protection Method AG-597B) has passed an Agency petition method validation for several commodities, and is currently the enforcement method for fludioxonil. Contact: Laura Nollen, (703) 305-7390, email address: nollen.laura@epa.gov.

2. PP 1E7972. (EPA-HQ-OPP-2012-0164). E.I. du Pont de Nemours and Company, P.O. Box 80402, Wilmington, DE 19880, requests to establish tolerances in 40 CFR part 180 for residues of the fungicide proquinazid, in or on grapes at 0.5 ppm and raisins at 1.0 ppm. The proposed enforcement analytical methodology for proquinazid in plant-based matrices is the DFG-S19 multi-residue method which uses gas chromatography with electron capture detection (GC/ECD) or GC with mass spectromatic detection (GC/MSD). The analytical method AMR 4089-96 (Analytical method for the determination of proquinazid (DPX-KQ926) and metabolite (IN-MM671) in grapes using GC/MSD successfully determines residues in grapes and processed grape commodities. Contact: Rose Mary Kearns, (703) 305-5611, email address: kearns.rosemary@epa.gov.

3. PP 2E7979. (EPA-HQ-OPP-2012-0132). Interregional Research Project Number 4 (IR-4), 500 College Road East, Suite 201 W, Princeton, NJ 08540, requests to establish tolerances in 40 CFR part 180 for residues of the herbicide glyphosate N-(phosphonomethyl) glycine in or on the raw agricultural commodity teff, forage and teff, hay at 100 ppm; and oilseed crops, group 20 at 40 ppm. Adequate enforcement methods are available for analysis of residues of glyphosate and its metabolite, AMPA, in or on plant and livestock commodities. These methods include: Gas-Liquid Chromatography ((GLC)—Method I in PAM II); HPLC with fluorometric detection; and GC/MS method for glyphosate in crops has also been validated by EPA's Analytical Chemistry Laboratory (ACL). Contact: Andrew Ertman, (703) 308-9367, email address: ertman.andrew@epa.gov.

4. PP 2E7991. (EPA-HQ-OPP-2012-0203). Interregional Research Project Number 4 (IR-4), 500 College Road East, Suite 201 W, Princeton, NJ 08540, requests to establish tolerances in 40 CFR part 180 for residues of the plant growth regulator 1-naphthaleneacetic acid (NAA) and its conjugates, in or on rambutan at 3 ppm; avocado, mamey sapote and mango at 0.05 ppm; and fruit, pome, group 11-10 at 0.15 ppm. The nature of the residues of NAA is adequately understood and an acceptable analytical method is available for enforcement purposes. Contact: Laura Nollen, (703) 305-7390, email address: nollen.laura@epa.gov.

5. PP 2E7982. (EPA-HQ-OPP-2012-0139). Interregional Research Project Number 4 (IR-4), 500 College Road East, Suite 201 W, Princeton, NJ 08540 in cooperation with Valent U.S.A. Corporation, 1600 Riviera Avenue, Suite 200, Walnut Creek, CA 94596, requests to establish tolerances in 40 CFR part 180 for residues of the herbicide flumioxazin, 2-[7-fluoro-3,4-dihydro-3-oxo-4-(2-propynyl)-2H-1,4-benzoxazin-6-yl]-4,5,6,7-tetrahydro-1H-isoindole-1,3(2H)-dione, in or on artichoke at 0.02 ppm; cabbage and Chinese cabbage (tight-headed varieties only) at 0.02 ppm; olives, and olive oil at 0.02 ppm; pomegranate at 0.02 ppm; cactus fruit at 0.1 ppm, and cactus pads at 0.05 ppm. Practical analytical methods for detecting and measuring levels of flumioxazin have been developed and validated in/on all appropriate agricultural commodities and respective processing fractions. The level of quantitation (LOQ) of flumioxazin in the methods is 0.02 ppm which will allow monitoring of food with residues at the levels proposed for the tolerances. Contact: Andrew Ertman, (703) 308-9367, email address: ertman.andrew@epa.gov.

6. PP 0F7791. (EPA-HQ-OPP-2008-0743). Nichino America, Inc., 4550 New Linden Hill Rd., Suite 501, Wilmington, DE 19808, requests to establish tolerances in 40 CFR part 180 for residues of the insecticide tolfenpyrad (4-chloro-3-ethyl-1-methyl-N-[4-(p-tolyloxy) benzyl] pyrazole-5-carboxamide, in or on head lettuce at 5 ppm; leaf lettuce at 30 ppm; leaf petioles, subgroup 4B at 12.5 ppm; spinach at 24 ppm; Brassica, head and stem, subgroup 5A at 3.6 ppm; Brassica, leafy, subgroup 5B at 44 ppm; vegetable, fruiting group 8 at 0.6 ppm; potatoes at 0.04 ppm; nut, tree group 14 (including pistachio) at 0.04 ppm; almond, hulls at 5.0 ppm; fruit, pome, group 11 at 0.6 ppm; apple, wet pomace at 5.0 ppm; vegetable, cucurbit, group 9 at 0.8 ppm; fruit, stone, group 12 at 3.0 ppm; pomegranates at 3.0 ppm; persimmons at 3.0 ppm; citrus, group 10 at 1.0 ppm; citrus, pulp, dried at 2.0 ppm; citrus, oil at 16.0 ppm; grapes at 2.0 ppm; raisins at 5 ppm; cotton, seed at 0.6 ppm; cotton, gin byproducts at 9.0 ppm; tea at 20 ppm; milk at 0.03 ppm; cattle, meat at 0.2 ppm; cattle, meat byproducts at 0.2 ppm; cattle, fat at 0.01 ppm; cattle, kidney at 0.3 ppm; cattle, liver at 0.7 ppm; sheep, meat at 0.02 ppm; sheep, meat byproducts at 0.02 ppm; sheep, fat at 0.01 ppm; sheep, kidney at 0.3 ppm; sheep, liver at 0.7 ppm; goat, meat at 0.02 ppm; goat, meat byproducts at 0.02 ppm; goat, fat at 0.01 ppm; goat, kidney at 0.3 ppm; goat, liver at 0.7 ppm; horse, meat at 0.02 ppm; horse, fat at 0.01 ppm; horse, kidney at 0.3 ppm; horse, liver at 0.7 ppm; and horse, meat byproducts at 0.02 ppm. Residues of tolfenpyrad are quantified using HPLC-MS/MS detection. This method has been successfully validated at an independent facility and therefore is suitable for use as the enforcement method for the determination of residues of tolfenpyrad in crops. Contact: Driss Benmhend, (703) 308-9525, email address: benmhend.driss@epa.gov.

7. PP 1F7935. (EPA-HQ-OPP-2012-0044). United Phosphorus, Inc., 630 Freedom Business Center, King of Prussia, PA 19406, requests to establish a tolerance in 40 CFR part 180 for residues of the fungicide mancozeb, in or on walnuts at 0.75 ppm of carbon disulfide equivalents. Residues of mancozeb are determined by decomposing the residue with a strong acid to release carbon disulfide (CS2). The CS2 can be measured by GC or by absorbance of a colored copper dithiocarbamate complex formed by sweeping the CS2 through a trap and into a reaction tube containing a solution of copper acetate and an amine. Adequate methodology for enforcement is available in the Pesticide Analytical Manual (PAM), Volume II, Methods II and III. Contact: Lisa Jones, (703) 308-9424, email address: jones.lisa@epa.gov.

8. PP 1F7902. (EPA-HQ-OPP-2007-0556). Nichino America, Inc., 4550 New Linden Hill Road, Suite 501, Wilmington, DE 19808, requests to establish tolerances in 40 CFR part 180 for residues of the insecticide fenpyroximate and its Z- isomer, in or on corn, field, grain at 0.02 ppm; corn, field, forage/silage at 2.0 ppm; corn, field, stover at 7.0 ppm; corn, field, aspirated fractions at 2.0 ppm; corn, pop, grain at 0.02 ppm; corn, pop, forage/silage at 2.0 ppm; corn, pop, stover at 7.0 ppm; and corn, pop, aspirated fractions at 2.0 ppm. An enforcement method has been developed which involves extraction of fenpyroximate from crops with ethyl acetate in the presence of anhydrous sodium sulfate, dilution with methanol, and then analysis by HPLC-MS/MS detection. Contact: Driss Benmhend, (703) 308-9525, email address: benmhend.driss@epa.gov.

Amended Tolerances

1. PP 1E7853. (EPA-HQ-OPP-2011-0395). Interregional Research Project Number 4 (IR-4), 500 College Road East, Suite 201 W, Princeton, NJ 08540, requests to amend the tolerances in 40 CFR 180.516 by revising the tolerances for residues of the fungicide fludioxonil, 4-(2, 2-difluoro-1,3-benzodioxol-4-yl)-1H-pyrrole-3-carbonitrile, from 0.45 ppm to 5.0 ppm for the following commodities: Avocado; sapote, black; canistel; sapote, mamey; mango; papaya; sapodilla; and star apple. The petition additionally requests to amend the tolerances for the following commodities from 1.0 ppm to 20 ppm: Longan; lychee; pulasan; rambutan; and Spanish lime. The petition also requests to amend the tolerance in or on tomato from 0.50 ppm to 3.0 ppm. In addition, upon approval of the aforementioned tolerances, it is proposed that 40 CFR 180.516 be amended to remove the established tolerances for the residues of fludioxonil, 4-(2, 2-difluoro-1,3-benzodioxol-4-yl)-1H-pyrrole-3-carbonitrile, in or on the raw agricultural commodities onion, bulb at 0.2 ppm; onion, green at 7.0 ppm; caneberry subgroup 13A at 5.0 ppm; bushberry subgroup 13B at 2.0 ppm; Juneberry at 2.0 ppm; lingonberry at 2.0 ppm; salal at 2.0 ppm; grape at 1.0 ppm; strawberry at 2.0 ppm; vegetable, fruiting, group 8 at 0.01 ppm; tomatillo at 0.50 ppm; fruit, citrus, group 10 at 10 ppm; fruit, pome, group 11 at 5.0 ppm; leafy greens subgroup 4A, except spinach at 30 ppm; and vegetable, tuberous and corm, subgroup 1D at 3.5 ppm. Syngenta has developed and validated analytical methodology for enforcement purposes. This method (Syngenta Crop Protection Method AG-597B) has passed an Agency petition method validation for several commodities, and is currently the enforcement method for fludioxonil. Contact: Laura Nollen, (703) 305-7390, email address: nollen.laura@epa.gov.

2. PP 2E7979. (EPA-HQ-OPP-2012-0132). Interregional Research Project Number 4 (IR-4), 500 College Road East, Suite 201 W, Princeton, NJ 08540, requests to amend the tolerances in 40 CFR 180.364 for residues of the herbicide glyphosate N-(phosphonomethyl) glycine, as follows: Vegetable, root and tuber, group 1, except sugar beet from 0.2 ppm to 6.0 ppm; and convert: Vegetable, bulb, group 3 at 0.2 ppm to vegetable, bulb, group 3-07 at 0.2 ppm; okra at 0.5 ppm and vegetable, fruiting, group 8 at 0.1 ppm to vegetable, fruiting, group 8-10 at 0.1 ppm; fruit, citrus, group 10 at 0.5 ppm to fruit, citrus, group 10-10 at 0.5 ppm; fruit, pome, group 11 at 0.2 ppm to fruit, pome, group 11-10 at 0.2 ppm; cranberry, grape, Juneberry, kiwifruit, lingonberry, salal, strawberry, and berry group 13 at 0.2 ppm to berry and small fruit, group 13-07 at 0.2 ppm. In addition, upon approval of the new tolerance for “Oilseed Crops, Group 20 at 40 ppm” under “New Tolerances”, delete tolerances for borage, seed, crambe, seed, jojoba, seed, lesquerella, seed, meadowfoam, seed, mustard, seed and sesame, seed all at 0.1 ppm; flax, seed at 4.0 ppm; flax, meal at 8.0 ppm; canola, seed and rapeseed, seed at 20 ppm; cotton, undelinted seed at 40 ppm and safflower, seed and Sunflower, seed at 85 ppm; which will be included under the “Oilseed Crops, Group 20 at 40 ppm”. Adequate enforcement methods are available for analysis of residues of glyphosate and its metabolite, AMPA, in or on plant and livestock commodities. These methods include: GLC—Method I in PAM II; HPLC with fluorometric detection; and GC/MS method for glyphosate in crops has also been validated by EPA's Analytical Chemistry Laboratory (ACL). Contact: Andrew Ertman, (703) 308-9367, email address: ertman.andrew@epa.gov.

3. PP 2E7991. (EPA-HQ-OPP-2012-0203). Interregional Research Project Number 4 (IR-4), 500 College Road East, Suite 201 W, Princeton, NJ 08540, requests upon approval of the aforementioned tolerances under “New Tolerance”, to amend the tolerances in 40 CFR 180.155 for residues of the plant growth regulator, 1-naphthalene- acetic acid (NAA) and its conjugates, by removing the tolerance for fruit, pome, group 11 at 0.15 ppm, as it will be superseded by the tolerance on fruit, pome, group 11-10 at 0.15 ppm. Contact: Laura Nollen, (703) 305-7390, email address: nollen.laura@epa.gov.

New Tolerance Exemptions

1. PP 1E7900. (EPA-HQ-OPP-2012-0131). ISK Biosciences Corporation, 7470 Auburn Road, Suite A, Concord, OH 44077, requests to establish an exemption from the requirement of a tolerance for residues of calcium gluconate (CAS No. 299-28-5) under 40 CFR 180.920 when used as a pesticide inert ingredient as a sequestrant, binder and filler in pesticide formulations applied pre-harvest to all raw agricultural. The petitioner believes no analytical method is needed based on the fact that this information is not required for the establishment of a tolerance exemption. Contact: Roger Chesser, (703) 347-8516, email address: chesser.roger@epa.gov.

2. PP 1E7933. (EPA-HQ-OPP-2012-0207). Ecolab, Inc., 370 N. Wabasha Street, St. Paul, MN 55102, requests to establish an exemption from the requirement of a tolerance for residues of aluminum sulfate (CAS No. 10043-01-3) under 40 CFR 180.940(a) for use as an inert ingredient as a defoamer in antimicrobial pesticide formulations applied to food-contact surfaces in public eating places, dairy-processing equipment, and food-processing equipment and utensils at 50 ppm. The petitioner believes no analytical method is needed because it is not required for the establishment of a tolerance exemption for inert ingredients. Contact: Janet Whitehurst, (703) 305-6129, email address: whitehurst.janet@epa.gov.

3. PP 1E7949. (EPA-HQ-OPP-2012-0106). DowAgroSciences, LLC., 9330 Zionsville Rd., Indianapolis, IN 46268, requests to establish an exemption from the requirement of a tolerance for residues of N-Alkyl (C8-C18) dimethylamidopropyl-amines (NADMAPA) where the alkyl group is linear and may be saturated and/or unsaturated under 40 CFR 180.920 when used as a pesticide inert ingredient in pesticide formulations with limits of up to 20% of a herbicide formulation. NADMAPA is a group of highly related materials that are all derived from the reaction of dimethylamidopropyl-amine (DMAPA) with linear C8-C18 fatty acids. The following materials are proposed as being covered by the NADMAPA descriptor: Amides, coco, N-[3-(dimethylamino) propyl] (CAS No. 68140-01-2); Amides, C8-C18 and C18-unsatd., N-[3-(dimethylamino) propyl] (CAS No. 146987-98-6); N-[3-(dimethylamino)propyl]-C12-C18(even numbered)-alkylamide (CAS No. 1147459-12-8); dodecanamide, N-[3-(dimethylamino) propyl] (CAS No. 3179-80-4); tetradecanamide, N-[3-(dimethylamino)propyl] (CAS No. 45267-19-4); hexadecanamide, N-[3-(dimethylamino)propyl] (CAS No. 39669-97-1); octadecanamide, N-[3-(dimethylamino)propyl] (CAS No. 7651-02-7); 9-octadecenamide, N-[3-(dimethylamino)propyl]-, (9Z)- (CAS No. 109-28-4); decanamide, N-[3-(dimethylamino)propyl] (CAS No. 22890-11-5); and octanamide, N-[3-(dimethylamino)propyl] (CAS No. 22890-10-4). This petition is based on coconut fatty acid, dimethylamidopropylamide (Coco APDMA; CAS 68140-01-2; Amides, coco, N-[3-(dimethylamino)propyl]) as the representative test material for NADMAPA materials. Coco APDMA is a blend and the chain length of the R group varies based on the natural origin of the coconut oil. The dominant components of the R chain are C12 and C14 at 52.47 and 15.72%, respectively, but the chain length ranges from C8 to C18. The petitioner believes no analytical method is needed because it is not required for the establishment of a tolerance exemption for inert ingredients. Contact: William Cutchin, (703) 305-7990, email address: cutchin.william@epa.gov.

4. PP 1F7941. (EPA-HQ-OPP-2012-0134). Becker Underwood, Inc., 801 Dayton Avenue, Ames, IA 50010, requests to establish an exemption from the requirement of tolerances for residues of the seed applied biochemical pesticide, methyl jasmonate (CAS No. 1211-29-6), cyclopentaneacetic acid, 3-oxo-2-(2-pentenyl)-, methyl ester, in or on canola, seed; rapeseed, seed; mustard, seed; safflower, seed; sunflower, seed; and camelina, seed. An analytical method for residues of methyl jasmonate is not necessary as this petition requests an exemption from the requirement of a tolerance without numerical limitations. Contact: Chris Pfeifer, (703) 308-0031, email address: pfeifer.chris@epa.gov.

5. PP 2F7974. (EPA-HQ-OPP-2012-0250). Actagro, LLC, PO Box 309, Biola, CA 93606, requests to establish an exemption from the requirement of a tolerance for residues of the biochemical pesticide, Organic Acids Derived from Leonardite, when used as a plant growth regulator applied to all growing crops. The petition proposes to establish exemptions from the requirement of a tolerance without numerical limitation and an analytical method is generally not required for establishment of a tolerance exemption. Contact: Menyon Adams, (703) 347-8496, email address: adams.menyon@epa.gov.

Amended Tolerance Exemption

PP 1E7946. (EPA-HQ-OPP-2012-0031). Lyondell Chemical Company, 1221 McKinney Street, Houston, TX 77010, requests to expand the exemption from the requirement of a tolerance for uses of the residues of 2-methyl-1,3-propanediol (CAS No. 2163-42-0) in 40 CFR 180.940(a), to include uses in food contact surface sanitizing solutions in addition to existing uses on raw agricultural commodities and animals. The petitioner believes no analytical method is needed because it is not required for the establishment of a tolerance exemption for inert ingredients. Contact: David Lieu, (703) 305-0079, email address: lieu.david@epa.gov.

List of Subjects in 40 CFR Part 180

Environmental protection, Agricultural commodities, Feed additives, Food additives, Pesticides and pests, Reporting and recordkeeping requirements.

Dated: April 23, 2012.
Daniel J. Rosenblatt,
Acting Director, Registration Division, Office of Pesticide Programs.

[FR Doc. 2012-10321 Filed 5-1-12; 8:45 am]

BILLING CODE 6560-50-P